DEPARTMENT OF HOMELAND SECURITY

Coast Guard

33 CFR Part 165

[Docket No. USCG-2023-0504]

Safety Zones; Recurring Events in Captain of the Port Duluth—City of Bayfield 4th of July Fireworks Display

AGENCY: Coast Guard, DHS.

ACTION: Notice of enforcement of regulation.

SUMMARY: The Coast Guard will enforce the safety zone for the City of Bayfield Fireworks in Bayfield, WI. This action is necessary to protect participants and spectators during the City of Bayfield Fireworks. During the enforcement period, entry into, transiting, or anchoring within the safety zone is prohibited unless authorized by the Captain of the Port Duluth or designated on-scene representative.

DATES: The regulations in 33 CFR 165.943, table 1, paragraph (3) will be enforced from 9:30 p.m. through 10 p.m. on July 4, 2023, for the City of Bayfield Fireworks safety zone.

FOR FURTHER INFORMATION CONTACT: If you have questions on this document, call or email LT Joe McGinnis, telephone (218)-725-3818, email DuluthWWM@uscg.mil.

SUPPLEMENTARY INFORMATION: The Coast Guard will enforce the safety zone for the annual City of Bayfield 4th of July Fireworks Display in 33 CFR 165.943 from 9:30 p.m. through 10 p.m. on July 4, 2023. All waters of the Lake Superior North Channel in Bayfield, WI within the arc of a circle with a radius of no more than 1,120 feet from the launch site at position 46°48′40″ N, 090°48′32″ W.

Entry into, transiting, or anchoring within the safety zone is prohibited unless authorized by the Captain of the Port Duluth or their designated on-scene representative. The Captain of the Port's designated on-scene representative may be contacted via VHF Channel 16.

This document is issued under authority of 33 CFR 165.943 and 5 U.S.C. 552(a). In addition to this publication in the Federal Register, the Coast Guard will provide the maritime community with advance notification of the enforcement of this safety zone via Broadcast Notice to Mariners.

Dated: June 21, 2023.
J.M. DeWitz,
Commander, U.S. Coast Guard, Captain of the Port Duluth.

[FR Doc. 2023-13660 Filed 6-26-23; 8:45 am]

BILLING CODE 9110-04-P